DEPARTMENT OF ENERGY

Federal Energy Regulatory Commission

Combined Notice of Filings # 1

Take notice that the Commission received the following electric rate filings:

Docket Numbers: ER10-2984-002.

Applicants: Merrill Lynch Commodities, Inc.

Description: Notice of Non-Material Change in Status of Merrill Lynch Commodities, Inc.

Filed Date: 08/10/2011.

Accession Number: 20110810-5175.

Comment Date: 5 p.m. Eastern Time on Wednesday, August 31, 2011.

Docket Numbers: ER11-4274-000.

Applicants: New York Independent System Operator, Inc.

Description: New York Independent System Operator, Inc. submits tariff filing per 35.13(a)(2)(iii: NYISO tariff revisions related to Grandfathered Rights and Grandfathered TCC's to be effective 10/9/2011.

Filed Date: 08/10/2011.

Accession Number: 20110810-5048.

Comment Date: 5 p.m. Eastern Time on Wednesday, August 31, 2011.

Docket Numbers: ER11-4275-000.

Applicants: CenterPoint Energy Houston Electric, LLC.

Description: CenterPoint Energy Houston Electric, LLC submits tariff filing per 35.13(a)(2)(iii: TFO Tariff Rate Revision to Conform with PUCT-Approved ERCOT Transmission Rate to be effective 9/1/2011.

Filed Date: 08/10/2011.

Accession Number: 20110810-5056.

Comment Date: 5 p.m. Eastern Time on Wednesday, August 31, 2011.

Docket Numbers: ER11-4276-000.

Applicants: PJM Interconnection, L.L.C.

Description: PJM Interconnection, L.L.C. submits tariff filing per 35.13(a)(2)(iii: PJM Queue No. P59/W2-057; Original Service Agreement No. 2987 to be effective 7/12/2011.

Filed Date: 08/10/2011.

Accession Number: 20110810-5084.

Comment Date: 5 p.m. Eastern Time on Wednesday, August 31, 2011.

Docket Numbers: ER11-4277-000.

Applicants: PJM Interconnection, L.L.C.

Description: PJM Interconnection, L.L.C. submits tariff filing per 35.13(a)(2)(iii: Queue No. V4-006, V4-007, V4-030 and V-031, Original Service Agreement No. 2986 to be effective 7/11/2011.

Filed Date: 08/10/2011.

Accession Number: 20110810-5127.

Comment Date: 5 p.m. Eastern Time on Wednesday, August 31, 2011.

Docket Numbers: ER11-4278-000.

Applicants: Northern States Power Company, a Minnesota Corporation

Description: Northern States Power Company, a Minnesota corporation submits tariff filing per 35.13(a)(2)(iii: 2011-8-10_Ada_R-R_I-I_Agmt_Filing to be effective 10/9/2011.

Filed Date: 08/10/2011.

Accession Number: 20110810-5144.

Comment Date: 5 p.m. Eastern Time on Wednesday, August 31, 2011.

Docket Numbers: ER11-4279-000.

Applicants: Northern States Power Company, a Minnesota Corporation.

Description: Northern States Power Company, a Minnesota corporation submits tariff filing per 35.13(a)(2)(iii: 2011-8-10_Kasota_R-R_I-I_Agmt_Filing to be effective 10/9/2011.

Filed Date: 08/10/2011.

Accession Number: 20110810-5146.

Comment Date: 5 p.m. Eastern Time on Wednesday, August 31, 2011.

Docket Numbers: ER11-4280-000.

Applicants: Arizona Public Service Company.

Description: Arizona Public Service Company submits tariff filing per 35.13(a)(2)(iii: Open Access Transmission Tariff Revisions to Permit Intra-Hour Scheduling to be effective 10/9/2011.

Filed Date: 08/10/2011.

Accession Number: 20110810-5147.

Comment Date: 5 p.m. Eastern Time on Wednesday, August 31, 2011.

Take notice that the Commission received the following qualifying facility filings:

Docket Numbers: QF11-423-000.

Applicants: Rockingham County, NC.

Description: Form 556 of ROCKINGHAM County, NC.

Filed Date: 08/08/2011.

Accession Number: 20110808-5016.

Comment Date: None Applicable.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 11, 2011.
Kimberly D. Bose,
Secretary.

[FR Doc. 2011-21209 Filed 8-18-11; 8:45 am]

BILLING CODE 6717-01-P